ENVIRONMENTAL PROTECTION AGENCY

[FRL OP-OFA-077]

Environmental Impact Statements; Notice of Availability

Responsible Agency: Office of Federal Activities, General Information 202-564-5632 or https://www.epa.gov/nepa.

Weekly receipt of Environmental Impact Statements (EIS)

Filed June 30, 2023 10 a.m. EST Through July 10, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230084, Draft Supplement, USFS, ID, Crow Creek Pipeline Project, Comment Period Ends: 10/12/2023, Contact: Robbert Mickelsen 208-557-5764.

EIS No. 20230085, Draft Supplement, USFS, UT, High Uintas Wilderness Domestic Sheep Analysis, Comment Period Ends: 08/28/2023, Contact: Paul Cowley 801-999-2177.

Dated: July 10, 2023.
Cindy S. Barger,
Director, NEPA Compliance Division, Office of Federal Activities.

[FR Doc. 2023-14937 Filed 7-13-23; 8:45 am]

BILLING CODE 6560-50-P